DEPARTMENT OF DEFENSE

Office of the Secretary

[Docket ID: DoD-2023-HA-0069]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 16, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Angela Duncan, 571-372-7574, whs.mc-alex.esd.mbx.dd-dod-information-collections@mail.mil.

SUPPLEMENTARY INFORMATION:

Title; Associated Form; and OMB Number: Transgender Practice Patterns among Urologists, OMB Number 0720-TPPU.

Needs and Uses: Transgender patients have only recently been allowed to serve in the military. These patients are medically complex, and we suspect that most military physicians lack specialty training in gender affirming treatments. This is especially true for surgeons, as gender-affirming surgeries are often complex and require specialty training. We need to identify how many providers have adequate training in gender-affirming care and then use this data to bridge the gap and train up the other military physicians. Identifying current gaps in training and barriers to care is essential to improve transgender care. This has the potential to improve transgender care throughout the DoD, and is a vital part of the DoD's Diversity, Equity, and Inclusion (DEI) goals.

The respondents will be urologists and urology trainees in the DoD, to include tri-service military providers and Veterans Affairs providers. They will respond to the information collection as they will be eager to share their experiences and work to improve transgender care. There is only 1 survey instrument, and it will be collected via Qualtrics, which is a secure web-based survey platform. All responses will be anonymous and no protected health information will be collected. The survey will be accessed via a link and QR code sent via email. This invitation will be sent for OMB review. The survey will be electronically submitted. We will consider the results a success if we can get more than 50 responses.

Affected Public: Individuals or households.

Annual Burden Hours: 12.5 hours.

Number of Respondents: 50.

Responses per Respondent: 1.

Annual Responses: 50.

Average Burden per Response: 0.25 hours.

Frequency: On Occasion.

Dated: August 11, 2023.
Aaron T. Siegel,
Alternate OSD Federal Register Liaison Officer, Department of Defense.

[FR Doc. 2023-17624 Filed 8-15-23; 8:45 am]

BILLING CODE 5001-06-P